DEPARTMENT OF ENERGY

Federal Energy Regulatory Commission

Combined Notice of Filings #2

Take notice that the Commission received the following electric corporate filings:

Docket Numbers: EC18-36-000.

Applicants: MDU Resources Group, Inc.

Description: Application of MDU Resources Group, Inc. for Authorization under FPA Section 203 and Request for Confidential Treatment.

Filed Date: 12/19/17.

Accession Number: 20171219-5151.

Comments Due: 5 p.m. ET 1/9/18.

Take notice that the Commission received the following exempt wholesale generator filings:

Docket Numbers: EG18-20-000.

Applicants: States Edge Wind I LLC.

Description: Notice of Self-Certification of Exempt Wholesale Generator Status of States Edge Wind I LLC.

Filed Date: 12/19/17.

Accession Number: 20171219-5126.

Comments Due: 5 p.m. ET 1/9/18.

Docket Numbers: EG18-21-000.

Applicants: States Edge Wind I Holdings LLC.

Description: Notice of Self-Certification of Exempt Wholesale Generator Status of States Edge Wind I Holdings LLC.

Filed Date: 12/19/17.

Accession Number: 20171219-5149.

Comments Due: 5 p.m. ET 1/9/18.

Take notice that the Commission received the following electric rate filings:

Docket Numbers: ER18-471-000.

Applicants: States Edge Wind I LLC.

Description: Baseline eTariff Filing: Application for Market-Based Rate Authorization to be effective 2/18/2018.

Filed Date: 12/19/17.

Accession Number: 20171219-5116.

Comments Due: 5 p.m. ET 1/9/18.

Docket Numbers: ER18-471-001.

Applicants: States Edge Wind I LLC.

Description: Tariff Amendment: Supplement to Application for Market-Based Rate Authorization to be effective 2/18/2018.

Filed Date: 12/19/17.

Accession Number: 20171219-5150.

Comments Due: 5 p.m. ET 1/9/18.

Docket Numbers: ER18-472-000.

Applicants: States Edge Wind I Holding LLC.

Description: Baseline eTariff Filing: Application for Market-Based Rate Authorization to be effective 2/18/2018.

Filed Date: 12/19/17.

Accession Number: 20171219-5117.

Comments Due: 5 p.m. ET 1/9/18.

Docket Numbers: ER18-472-001.

Applicants: States Edge Wind I Holding LLC.

Description: Tariff Amendment: Supplement to Application for Market-Based Rate Authorization to be effective 2/18/2018.

Filed Date: 12/19/17.

Accession Number: 20171219-5154.

Comments Due: 5 p.m. ET 1/9/18.

Docket Numbers: ER18-473-000.

Applicants: Union Electric Company.

Description: § 205(d) Rate Filing: Revised Rate Schedule 22 Reactive to be effective 1/1/2018.

Filed Date: 12/19/17.

Accession Number: 20171219-5121.

Comments Due: 5 p.m. ET 1/9/18.

Docket Numbers: ER18-474-000.

Applicants: California Independent System Operator Corporation.

Description: § 205(d) Rate Filing: 2017-12-19 Informational Update to Technical Information—CCFC Sutter Pseudo PGA to be effective 2/22/2018.

Filed Date: 12/19/17.

Accession Number: 20171219-5161.

Comments Due: 5 p.m. ET 1/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2017.
Nathaniel J. Davis, Sr.,
Deputy Secretary.

[FR Doc. 2017-27835 Filed 12-26-17; 8:45 am]

BILLING CODE 6717-01-P